DEPARTMENT OF LABOR

Employment and Training Administration

Agency Information Collection Activities; Submission for OMB Review; Comment Request: H-2A Recordkeeping Requirement

ACTION: Notice of availability; request for comments.

SUMMARY: The Department of Labor (DOL or Department), as part of its continuing effort to reduce paperwork and respondent burden, conducts a preclearance consultation program to provide the public and Federal agencies with an opportunity to comment on proposed and/or continuing collections of information in accordance with the Paperwork Reduction Act of 1995. This program helps ensure that requested data can be provided in the desired format, reporting burden (time and financial resources) is minimized, collection instruments are clearly understood, and the impact of collection requirements on respondents can be properly assessed. Currently, the Employment and Training Administration (ETA) is soliciting comments concerning its proposal to extend the approval of this information collection. Current expiration of the information collection is November 30, 2018.

DATES: Written comments must be submitted to the office listed in the addresses section below on or before October 22, 2018.

ADDRESSES: A copy of this information collection request (ICR), with applicable supporting documentation, including a description of the likely respondents, proposed frequency of response, and estimated total burden may be obtained free of charge by contacting William W. Thompson, II, Administrator, Office of Foreign Labor Certification, telephone number: 202-513-7350 (this is not a toll-free number). Individuals with hearing or speech impairments may access the telephone number above via TTY by calling the toll-free Federal Information Relay Service at 1-877-889-5627 (TTY/TDD). Requests may also be made by fax at 202-513-7395 or by email at ETA.OFLC.Forms@dol.gov subject line: H-2A Recordkeeping Requirement.

Submit written comments about, or requests for a copy of, this ICR by mail or courier to the U.S. Department of Labor, Employment and Training Administration, Office of Foreign Labor Certification, Room 12-200, 200 Constitution Avenue NW, Washington, DC 20210; by email: ETA.OFLC.Forms@dol.gov subject line: H-2A Recordkeeping Requirement; or by fax: 202-513-7395.

SUPPLEMENTARY INFORMATION:

I. Background

Under the foreign labor certification programs administered by ETA, the H-2A temporary labor certification program enables employers to bring nonimmigrant foreign workers to the U.S. to perform agricultural work of a temporary or seasonal nature as defined in 8 U.S.C. 1101(a)(15)(H)(ii)(a). The H-2A program also permits employers to employ foreign sheepherders and goatherders and those working in open-range production of livestock.

In order to meet its statutory responsibilities under the Immigration and Nationality Act, the Department must request information from employers seeking to hire and import foreign labor. The Department uses the information collected to determine whether employers engaging in sheep herding, goat herding, and open-range production of livestock have met their obligations under Federal law. This ICR pertains to program obligations for employers seeking to hire foreign temporary agricultural workers for job opportunities in herding or production of livestock on the open range. Among the issues addressed through this ICR are timekeeping requirements of employers. In order to determine eligibility for the program based on the amount of work performed on the range, this ICR requires employers to note whether employees spend days on the ranch or on the range. This ICR also requires employers to record the reason for the worker's absence where the employer chooses to prorate the required wage.

II. Review Focus

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. This ICR May Be Summarized as Follows

Agency: DOL-ETA.

Action: Extension.

Title of Collection: H-2A Recordkeeping Requirement.

OMB Control Number: 1205-0519.

Affected Public: Private Sector—Farms.

Form(s): None.

Total Estimated Number of Annual Respondents: 654.

Frequency: Weekly (50 weeks).

Total Estimated Annual Responses: 32,070.

Average Time per Response: 6 minutes.

Total Estimated Annual Time Burden: 3,270.

Total Estimated Annual Other Costs Burden: $0.

Comments submitted in response to this comment request will be summarized and/or included in the request for OMB approval of the ICR; they will also become a matter of public record. Commenters are encouraged not to submit sensitive information (e.g., confidential business information or personally identifiable information such as a social security number).

Authority: 44 U.S.C. 3507(a)(1)(D).

Rosemary Lahasky,
Deputy Assistant Secretary for Employment and Training Administration.

[FR Doc. 2018-18211 Filed 8-22-18; 8:45 am]

BILLING CODE 4510-FP-P